FEDERAL COMMUNICATIONS COMMISSION

[CG Docket No. 03-123; DA 06-2386]

Telecommunications Relay Services and Speech-to-Speech Services for Individuals With Hearing and Speech Disabilities

AGENCY: Federal Communications Commission.

ACTION: Notice.

SUMMARY: In this document, the Consumer and Governmental Affairs Bureau dismisses a petition for clarification filed by Communication Service for the Deaf (CSD) requesting the Commission to clarify that the providers of American Sign Language (ASL)-to-Spanish Video Relay Service (VRS) are not required to offer the service 24 hours a day and 7 days a week to be eligible for compensation from the Interstate Telecommunications Relay Service (TRS) Fund (Fund).

DATES: Effective November 28, 2006.

ADDRESSES: Federal Communications Commission, 445 12th Street, SW., Washington DC 20554.

FOR FURTHER INFORMATION CONTACT: Gregory Hlibok, Consumer and Governmental Affairs Bureau, Disability Rights Office, (800) 311-4381 (voice), (202) 418-0431 (TTY), or e-mail Gregory.Hlibok@fcc.gov.

SUPPLEMENTARY INFORMATION: On July 19, 2005, the Commission released Telecommunications Relay Services and Speech-to-Speech Services for Individuals with Hearing and Speech Disabilities, Order on Reconsideration, FCC 03-139, CC Docket No. 98-67 and CG Docket No. 03-123, which published in the Federal Register on August 31, 2005 at 70 FR 51642, reversing its conclusion that translation from ASL into Spanish is not a form of TRS eligible for compensation from the Fund. Also, on July 19, 2005, the Commission released Telecommunications Relay Services and Speech-to-Speech Services for Individuals with Hearing and Speech Disabilities, Report and Order, FCC 05-140, CC Docket No. 98-67 and CG Docket No. 03-123, which published in the Federal Register on August 31, 2005 at 70 FR 51649, establishing a mandatory speed of answer requirement for VRS, requiring VRS to be offered 24 hours a day, 7 days a week. On February 6, 2006, a Petition for Clarification was filed by CSD concerning the provision of ASL-to-Spanish VRS. The petition was placed on public notice, and several comments were filed. The notice was published in the Federal Register on March 8, 2006 at 71 FR 11644. This is a summary of the Commission's document DA 06-2386, released November 28, 2006.

Synopsis

On February 6, 2006, CSD filed a petition for clarification concerning whether providers of ASL-to-Spanish VRS, a form of TRS, must offer service 24 hours a day, 7 days a week (24/7) to be eligible for compensation from the Fund. The CSD Petition was placed on public notice, and several comments were filed. On October 19, 2006, CSD filed a letter with the Commission withdrawing its petition. See Letter from Karen Peltz Strauss, Legal Consultant for CSD, to Monica Desai, Chief, Consumer and Governmental Affairs Bureau, Federal Communications Commission (October 19, 2006). Accordingly, the Consumer and Governmental Affairs Bureau dismisses the CSD Petition.

Federal Communications Commission.
Jay Keithley,
Deputy Bureau Chief, Consumer and Governmental Affairs Bureau.

[FR Doc. E7-3526 Filed 2-28-07; 8:45 am]

BILLING CODE 6712-01-P